ENVIRONMENTAL PROTECTION AGENCY

40 CFR Part 52

[CA-274-0372; FRL-7473-4]

Approval and Promulgation of State Implementation Plans and Designation of Areas for Air Quality Planning Purposes; California—Coachella Valley

AGENCY: Environmental Protection Agency (EPA).

ACTION: Final rule.

SUMMARY: EPA is taking final action to approve state implementation plan (SIP) revisions submitted by the State of California to provide for attainment of the particulate matter (PM-10) national ambient air quality standard (NAAQS) in the Coachella Valley area and to establish emissions budgets for use in transportation conformity determinations. EPA is also granting the State's request for an extension of the PM-10 attainment deadline to December 31, 2006.

EFFECTIVE DATE: This action is effective May 19, 2003.

ADDRESSES: You can inspect copies of the docket for this action during normal business hours at the EPA Region IX office. You can inspect copies of the submitted SIP materials at the following locations.

California Air Resources Board, 1001 I Street, Sacramento, California, 95814.

South Coast Air Quality Management District, 21865 E. Copley Drive, Diamond Bar, California, 91765-0932.

The 2002 plan is electronically available at: http://www.aqmd.gov/aqmp/.

FOR FURTHER INFORMATION CONTACT: Eleanor Kaplan, Air Planning Office (AIR-2), Air Division, U.S. Environmental Protection Agency, Region IX, 75 Hawthorne Street, San Francisco, CA 94105-3901, (415) 947-4147 or e-mail: kaplan.eleanor@epa.gov.

SUPPLEMENTARY INFORMATION: Throughout this document “we”, “us”, and “our” means EPA.

I. Proposed Actions

On December 17, 2002 (67 FR 77212), we proposed to approve the serious area PM-10 SIP submittals by California for the Coachella Valley (Valley) including the motor vehicle emissions budgets, and to grant the State's request that we extend the attainment date from December 31, 2001 to December 31, 2006, in accordance with Clean Air Act (CAA) section 188(e).

We proposed to approve specific portions of the following submittals:

(1) 1994 plan: The South Coast Air Quality Management District (SCAQMD), which has jurisdiction over the Valley, adopted the 1994 BACM SIP for the Valley on July 8, 1994 and the California Air Resources Board (CARB) submitted the plan to us on August 16, 1994. The 1994 plan, in accordance with the provisions of CAA section 189(1)(B), identified the Best Available Control Measures (BACM) that were required for this serious PM-10 nonattainment area and committed to implementation of these measures by February 8, 1997.

(2) 1996 Plan: The SCAQMD adopted a Redesignation and Maintenance Plan on December 13, 1996 and submitted the plan to us on February 5, 1997. The 1996 plan addressed the remaining plan provisions for serious PM-10 nonattainment areas, as specified in the CAA sections 188 and 189. However, before EPA acted on the 1996 plan, the area recorded a violation of the annual PM-10 NAAQS during the period from 1999 through 2001 and was therefore unable to meets its attainment date of December 31, 2001.

(3) 2002 Plan: On June 21, 2002 and September 13, 2002 the SCAQMD adopted amendments to the 1996 plan and CARB submitted the 2002 plan to us on November 18, 2002. The 2002 plan addresses the CAA provisions for emissions inventories, control measures and BACM, reasonable further progress, contingency measures, attainment demonstration, attainment date extension and motor vehicle emissions budgets.

Our proposal on this action contains detailed information on these SIP submittals and our evaluation of the submittals against applicable CAA provisions and EPA policies relating to serious area PM-10 SIPs.

II. Public Comments

Under EPA's policy for reviewing the adequacy of motor vehicle emissions budget submissions, these budgets were posted on the EPA Web site for public comment. ¹ The public comment period was open for thirty days. No comments were received by EPA during the 30 day adequacy comment period nor did EPA receive any comments on our December 17, 2002 proposal.

¹ The e-mail address for EPA's conformity Web site is http://www.epa.gov/oms/traq, (once there, click on the “Conformity” button, then look for “Adequacy Review of SIP Submissions for Conformity”).

III. Summary of Final Action

In this document, we are finalizing the following actions on the PM-10 SIP submittals for the Coachella Valley. For each action, we indicate the page on which the element is discussed in our proposal.

(1) Approval of the baseline and projected emissions inventories of the 2002 plan (Chapter 3) under CAA section 172(c)(3)—67 FR 77206-77207.

(2) Approval of the control measures in the 1994 plan (Chapter 4), 1996 plan (Chapter 4), and the 2002 plan (Chapters 4 and 5) under CAA section 110(k)(3) as meeting the provisions of CAA sections 110(a), 188(e), and 189(b)(1)(B)—67 FR 77207-77209.

(3) Approval of the contingency measures in the 2002 plan, under CAA section 110(k)(3) as meeting the provisions of CAA section 172(c)(9)—67 FR 77209.

(4) Approval of the reasonable further progress provisions of the 2002 plan (Appendix E-3, Table E-2)—67 FR 77216-7 (Table 2).

(5) Approval of the demonstration of attainment in the 1997 plan (Chapter 5, Appendix V) under CAA section 189(b)(1)(A)—67 FR 77209.

(6) Approval of the attainment deadline extension to December 31, 2006 in the 2002 plan (Chapter 8)under CAA section 188(e)—67 FR 77210.

(7) Approval of the motor vehicle emission budgets for use in transportation conformity determinations for the years 2003 and 2006 under CAA section 176(c)(2)(A)—67 FR 77211 (Table E-3). As proposed, we are limiting this approval to last only until the effective date of our adequacy findings for new replacement budgets. For further discussion of the rationale for, and effect of, this limitation, please see our recent promulgation of a limitation on motor vehicle emission budgets associated with various California SIPs, at 67 FR 69139 (November 15, 2002).

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by June 17, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements.

Dated: February 27, 2003.
Alexis Strauss,
Acting Regional Administrator, Region IX.

Part 52, chapter I, title 40 of the Code of Federal Regulations is amended as follows:

PART 52—[AMENDED]

1. The authority citation for part 52 continues to read as follows:

Authority: 42 U.S.C. 7401 et seq.

Subpart F—California

2. Section 52.220 is amended by adding paragraphs (c)(247) (i)(A)(5), and (c)(309)(i)(A)(2) to read as follows:

§ 52.220 Identification of plan.

* * * * *

(c) * * *

(247) * * *

(i) * * *

(A) * * *

(5) SCAQMD commitment to adopt and implement control measures, as contained in the Coachella Request for Redesignation and Maintenance Plan for PM-10.

* * * * *

(309) * * *

(i) * * *

(A) * * *

(2) Baseline and projected emissions inventories, SCAQMD commitment to adopt and implement control measures, reasonable further progress, contingency measures, attainment demonstration, PM-10 attainment date extension, and motor vehicle emissions budgets, as contained in Chapters 3, 4, 5, 6 and 8 of the 2002 Coachella Valley PM-10 SIP adopted by SCAQMD on June 21, 2002, and the 2002 Coachella Valley PM-10 SIP Addendum (Appendix E) adopted by SCAQMD on September 13, 2002.

* * * * *

3. Section 52.244 is amended by adding paragraph (e)(2) to read as follows:

§ 52.244 Motor vehicle emissions budgets.

* * * * *

(e) * * *

(2) Coachella Valley, approved April 18, 2003.

[FR Doc. 03-9479 Filed 4-17-03; 8:45 am]

BILLING CODE 6560-50-P